ENVIRONMENTAL PROTECTION AGENCY

40 CFR Part 300

[EPA-HQ-SFUND-1989-0011; EPA-HQ-SFUND-2004-0004; EPA-HQ-SFUND-1999-0013; EPA-HQ-SFUND-1986-0005; EPA-HQ-SFUND-2011-0066; EPA-HQ-SFUND-1999-0013; EPA-HQ-SFUND-1989-008; EPA-HQ-SFUND-1983-0002; EPA-HQ-SFUND-2000-0006; EPA-HQ-SFUND-2005-0011; EPA-HQ-SFUND-1994-0009; EPA-HQ-SFUND-1992-0014; FRL-10014-15-OLEM]

Deletions From the National Priorities List

AGENCY: Environmental Protection Agency (EPA).

ACTION: Final rule.

SUMMARY: The Environmental Protection Agency (EPA) announces the deletion of eight sites and the partial deletion of nine sites from the Superfund National Priorities List (NPL). The NPL, created under section 105 of the Comprehensive Environmental Response, Compensation, and Liability Act (CERCLA) of 1980, as amended, is an appendix of the National Oil and Hazardous Substances Pollution Contingency Plan (NCP). The EPA and the states, through their designated state agencies, have determined that all appropriate response actions under CERCLA, other than operation and maintenance, monitoring, and five-year reviews, where applicable, have been completed. However, this deletion does not preclude future actions under Superfund.

DATES: The document is effective on September 30, 2020.

ADDRESSES:

Docket: EPA has established a docket for this action under the Docket Identification included in Table 1 in the SUPPLEMENTARY INFORMATION section of this document. All documents in the docket are listed on the https://www.regulations.gov website. Although listed in the index, some information is not publicly available, i.e., Confidential Business Information or other information whose disclosure is restricted by statute. Certain other material, such as copyrighted material, is not placed on the internet and will be publicly available only in hard copy form. Publicly available docket materials are available either electronically through https://www.regulations.gov or in hard copy at the corresponding Regional Records Centers. Locations, addresses, and phone numbers-of the Regional Records Centers follow.

Regional Records Centers:

• Region 1 (CT, ME, MA, NH, RI, VT), U.S. EPA, Superfund Records and Information Center, 5 Post Office Square, Suite 100, Boston, MA 02109-3912; 617/918-1413.

• Region 2 (NJ, NY, PR, VI), U.S. EPA, 290 Broadway, New York, NY 10007-1866; 212/637-4342.

• Region 3 (DE, DC, MD, PA, VA, WV), U.S. EPA, Library, 1650 Arch Street Mail code 3HS12, Philadelphia, PA 19103; 215/814-3355.

• Region 4 (AL, FL, GA, KY, MS, NC, SC, TN), U.S. EPA, 61 Forsyth Street SW, Mail code 9T25, Atlanta, GA 30303; 404/562-8637.

• Region 5 (IL, IN, MI, MN, OH, WI), U.S. EPA Superfund Division Librarian/SFD Records Manager SRC-7J, Metcalfe Federal Building, 77 West Jackson Boulevard, Chicago, IL 60604; 312/886-4465.

• Region 6 (AR, LA, NM, OK, TX), U.S. EPA, 1445 Ross Avenue, Suite 1200, Mail code 6SFTS, Dallas, TX 75202-2733; 214/665-7436.

• Region 7 (IA, KS, MO, NE), U.S. EPA, 11201 Renner Blvd., Mail code SUPRSTAR, Lenexa, KS 66219; 913/551-7956.

• Region 8 (CO, MT, ND, SD, UT, WY), U.S. EPA, 1595 Wynkoop Street, Mail code Records Center, Denver, CO 80202-1129; 303/312-7273.

• Region 9 (AZ, CA, HI, NV, AS, GU, MP), U.S. EPA, 75 Hawthorne Street, Mail code SFD 6-1, San Francisco, CA 94105; 415/972-3160.

• Region 10 (AK, ID, OR, WA), U.S. EPA, 1200 6th Avenue, Suite 155, Mail stop OMP-161, Seattle, WA 98101; 206/553-4494.

The EPA is temporarily suspending Regional Records Centers for public visitors to reduce the risk of transmitting COVID-19. Information in these repositories, including the deletion docket, has not been updated with hardcopy or electronic media. For further information and updates on EPA Docket Center services, please visit us online at https://www.epa.gov/dockets.

The EPA continues to carefully and continuously monitor information from the Centers for Disease Control and Prevention (CDC), local area health departments, and our Federal partners so that we can respond rapidly as conditions change regarding COVID.

FOR FURTHER INFORMATION CONTACT:

• Robert Lim, U.S. EPA Region 1 (CT, ME, MA, NH, RI, VT), lim.robert@epa.gov, 617/918-1392

• Mabel Garcia, U.S. EPA Region 2 (NJ, NY, PR, VI), garcia.mabel@epa.gov, 212/637-4356

• Andrew Hass, U.S. EPA Region 3 (DE, DC, MD, PA, VA, WV), hass.andrew@epa.gov, 215/814-2049

• Deborah Cox or Brian Farrier, U.S. EPA Region 4 (AL, FL, GA, KY, MS, NC, SC, TN), cox.deborah@epa.gov or farrier.brian@epa.gov, 404/562-8317 or 404/562-8952.

• Karen Cibulskis, U.S. EPA Region 5 (IL, IN, MI, MN, OH, WI), cibulskis.karen@epa.gov, 312/886-1843

• Brian Mueller, U.S. EPA Region 6 (AR, LA, NM, OK, TX), mueller.brian@epa.gov, 214/665-7167

• David Wennerstrom, U.S. EPA Region 7 (IA, KS, MO, NE), wennerstrom.david@epa.gov, 913/551-7996

• Linda Kiefer, U.S. EPA Region 8 (CO, MT, ND, SD, UT, WY), kiefer.linda@epa.gov, 303/312-6689

• Eric Canteenwala, U.S. EPA Region 9 (AZ, CA, HI, NV, AS, GU, MP), Canteenwala.eric@epa.gov, 415/972-3932

• Jeremy Jennings, U.S. EPA Region 10 (AK, ID, OR, WA), jennings.jeremy@epa.gov, 206/553-2724

• Chuck Sands, U.S. EPA Headquarters, sands.charles@epa.gov, 703/603-8857

SUPPLEMENTARY INFORMATION: Table 1- the sites to be deleted and partially deleted from the NPL are:

Table 1
Site name | City/county, state | Type | Docket No.
American Crossarm & Conduit Co | Chehalis, WA | Full | EPA-HQ-SFUND-1989-0011
Annapolis Lead Mine | Annapolis, MO | Full | EPA-HQ-SFUND-2004-0004
Cimarron Mining Corp | Carrizozo, NM | Full | EPA-HQ-SFUND-1989-0011
Fridley Commons Park Well Field | Fridley, MN | Full | EPA-HQ-SFUND-1999-0013
Jasco Chemical Corp | Mountain View, CA | Full | EPA-HQ-SFUND-1989-0011
Northside Landfill | Spokane, WA | Full | EPA-HQ-SFUND-1986-0005
Red Panther Chemical Company | Clarksdale, MS | Full | EPA-HQ-SFUND- 2011-0066
Tulsa Fuel and Manufacturing | Collinsville, OK | Full | EPA-HQ-SFUND-1999-0013
Anaconda Co. Smelter | Anaconda, MT | Partial | EPA-HQ-SFUND-1983-0002
Douglass Road/Uniroyal, Inc., Landfill | Mishawaka, IN | Partial | EPA-HQ-SFUND-1989-0008
Fort Wayne Reduction Dump | Fort Wayne, IN | Partial | EPA-HQ-SFUND-1986-0005
Industri-Plex | Woburn, MA | Partial | EPA-HQ-SFUND-1983-0002
Macalloy Corporation | North Charleston, SC | Partial | EPA-HQ-SFUND-2000-0006
Queen City Farms | Maple Valley, WA | Partial | EPA-HQ-SFUND-2005-0011
Redstone Arsenal (USARMY/NASA) | Huntsville, AL | Partial | EPA-HQ-SFUND-1994-0009
Southeast Rockford Gd Wtr Contamination | Rockford, IL | Partial | EPA-HQ-SFUND-1989-0008
U.S. Smelter & Lead Refining Inc | East Chicago, IN | Partial | EPA-HQ-SFUND-1992-0014

The sites to be deleted from the NPL, information concerning the proposed rule for the deletion including reference documents with the rationale and data principally relied upon by the EPA to determine that the Superfund response is complete, public comment and Responsiveness Summary (RS) (if applicable) are included in Table 2 as follows:

Table 2
Site name | Date, proposed rule | FR citation | Public comment | RS | Footnote
American Crossarm & Conduit Co | 7/10/2020 | 85 FR 41486 | No | No | 1, 3
Annapolis Lead Mine | 7/10/2020 | 85 FR 41487 | No | No | 1, 2, 3
Cimarron Mining Corp | 8/5/2020 | 85 FR 47331 | No | No | 1, 2, 3
Fridley Commons Park Well Field | 6/23/2020 | 85 FR 37619 | Yes | No |
Jasco Chemical Corp | 5/26/2020 | 85 FR 31427 | Yes | Yes |
Northside Landfill | 7/14/2020 | 85 FR 42431 | Yes | Yes | 1, 3
Red Panther Chemical Company | 7/15/2020 | 85 FR 42813 | No | No |
Tulsa Fuel and Manufacturing | 7/16/2020 | 85 FR 43193 | No | No | 1, 2, 3

The NCP permits activities to occur at a deleted site or that media or parcel of a partially deleted site, including operation and maintenance of the remedy, monitoring, and five-year reviews These activities for the site are entered in Table 2 and 3 in this SUPPLEMENTARY INFORMATION section, if applicable, under Footnote such that; 1= site has continued operation and maintenance of the remedy, 2= site receives continued monitoring, and 3= site five-year reviews are conducted.

The EPA received comments on three of the sites included for deletion in this final rule. For the Fridley Commons Park Well Field site, the closing date for comments on the Notice of Intent to Delete was July 23, 2020. One public comment was received which was not related to the deletion of the site from the NPL and EPA still believes the deletion action is appropriate. The comment and a memorandum documenting receipt of the comment were prepared and placed in the docket, EPA-HQ-SFUND-1999-0013, on https://www.regulations.gov, and in the Regional repository listed in the ADDRESSES section.

For the Jasco Chemical Corp. site, the closing date for comments on the Notice of Intent to Delete was June 25, 2020. Eight public comments were received. Commenters were concerned with a nearby unrelated chemical plume and exposure to construction workers and future residents of an apartment complex under construction at the site. Potential risks to workers and future residents at the Jasco site are being managed independently of the CERCLA cleanup process. There is a Covenant and Environmental Restriction on Property, or deed restriction, on the Jasco property which requires the California Regional Water Quality Control Board and EPA to oversee future use of the site, and to ensure soil and groundwater is managed according to a soil management plan that prevents any human exposure. The plan ensures continued sampling of site soil and groundwater, as it is transported offsite, to assure protection of human health and environment. A vapor mitigation system will be installed under the building and confirmatory pre-occupancy indoor air sampling to verify the efficacy of the system. EPA has determined that it is appropriate to proceed with the deletion because all response actions at the Jasco site are complete and the criteria for deletion have been met. A responsiveness summary was prepared and placed in the docket, EPA-HQ-SFUND-1989-0011, on https://www.regulations.gov, and in the Regional repository listed in the ADDRESSES section.

For the Northside Landfill site, the closing date for comments on the Notice of Intent to Delete was August 13, 2020. Two public comments were received. One commenter was concerned that EPA make decisions using good science and hard data. Such decision-making is documented in reports included in the deletion docket. The other commenter was concerned about the future use of the landfill property, particularly residential or commercial redevelopment. The site has an Environmental Covenant which restricts future uses of the site. The limitations prohibit any activity that would damage or disturb the integrity of the landfill cap which include any drilling, digging, excavation or placement of objects or equipment which would stress or deform the surface. Any future land use would need to be consistent with the Environmental Covenant. EPA still believes the deletion action is appropriate. A responsiveness summary was prepared and placed in the docket, EPA-HQ-SFUND-1986-0005, on https://www.regulations.gov, and in the Regional repository listed in the Addresses section. For all other sites not specified above, no adverse comments were received.

The sites to be partially deleted from the NPL are included in Table 3 as follows:

Table 3
Site name | Date, proposed rule | FR citation | Public comment | RS | Footnote
Anaconda Co. Smelter | 8/10/2020 | 85 FR 48132 | No | No | 1, 2, 3
Douglass Road/Uniroyal, Inc., Landfill | 6/23/2020 | 85 FR 37617 | Yes | Yes | 1, 2, 3
Fort Wayne Reduction Dump | 7/16/2020 | 85 FR 43191 | Yes | Yes | 1, 2, 3
Industri-Plex | 7/15/2020 | 85 FR 42809 | No | No |
Macalloy Corporation | 7/27/2020 | 85 FR 45155 | Yes | Yes | 2, 3
Queen City Farms | 7/14/2020 | 85 FR 42343 | Yes | Yes | 1, 2, 3
Redstone Arsenal (USARMY/NASA) | 7/22/2020 | 85 FR 44259 | No | No |
Southeast Rockford Gd Wtr Contamination | 6/23/2020 | 85 FR 37615 | Yes | No |
U.S. Smelter & Lead Refining Inc | 7/8/2020 | 85 FR 40959 | Yes | Yes |

The area and media of each Superfund site partial deletion is specified in the applicable proposed rule cited in Table 3 in this SUPPLEMENTARY INFORMATION section. All other Superfund site areas and media will remain on the NPL and are not being considered for deletion as part of this action.

The EPA received comments on six of the sites included for partial deletion in this rule. For the Douglass Road/Uniroyal, Inc., Landfill site, the closing date for comments on the Notice of Intent to Partially Delete was July 23, 2020. Three public comments were received. One comment from a resident in a nearby area expressed concern that the site is contaminating their well water and a nearby lake; the resident requested that the well water be tested. EPA and the state do not believe this area to be contaminated as explained to the commenter, and the state and county have offered to conduct sampling of the well. EPA also received one comment with property ownership records for Operable Unit 1, which EPA added to the deletion docket and site file. The City of Mishawaka commented and was concerned that deleting the Landfill Cap Area portion of the site from the NPL meant that the landfill gas control system would be shut down. The active landfill gas control system at the site, as well as other operation and maintenance activities, will continue after the partial deletion. The City also wanted to confirm that given the remaining levels of groundwater contamination at the site, all future development in the area will need to remain on municipal water. EPA confirmed that the groundwater portion of the site would remain on the NPL and future development in the area will likely need to remain on municipal water. EPA still believes the deletion action is appropriate. A responsiveness summary was prepared and placed in the docket, EPA-HQ-SFUND-1989-0008 on https://www.regulations.gov, and in the Regional repository listed in the ADDRESSES section.

For the Fort Wayne Reduction Dump site, the closing date for comments on the Notice of Intent to Partially Delete was August 17, 2020. Two public comments were received. One comment was from a nearby resident who thought inspections, maintenance and monitoring would be discontinued after the partial deletion. These activities will continue, as described in materials contained in the deletion docket. One public comment was received which was not related to the deletion of the site from the NPL. EPA still believes the deletion action is appropriate. A responsiveness summary was prepared and placed in the docket, EPA-HQ-SFUND-1986-0005, on https://www.regulations.gov, and in the Regional repository listed in the ADDRESSES section.

For the Macalloy Corporation site, the closing date for comments on the Notice of Intent to Partially Delete was August 26, 2020. One public comment was received stating if pollutants were found during a five-year review of the site, there should be joint and several liability on any party found responsible for creating this pollution retroactively and groundwater should be monitored. EPA has a Consent Decree with the potentially responsible party group to conduct the response and groundwater is being monitored as part of the five-year review. EPA still believes the deletion action is appropriate. A responsiveness summary was prepared and placed in the docket, EPA-HQ-SFUND-2000-0006, on https://www.regulations.gov, and in the Regional repository listed in the ADDRESSES section.

For the Queen City Farms site, the closing date for comments on the Notice of Intent to Partially Delete was August 13, 2020. Three public comments were received. One comment supported the partial deletion. Another comment expressed concerns about burning chemicals at the site and expressed concerns that the cleanup level for polynuclear aromatic compounds (PAHs) was not protective, requesting that EPA evaluate whether the cleanup level for PAHs is still protective. EPA lowered the cancer potency factor for carcinogenic PAHs based on changes to the toxicity, so EPA believes the cleanup level chosen is protective. A third commenter was concerned about chemical unknowns and future land use. The Final Containment Cell area is limited to industrial use and institutional controls restrict use of the areas to industrial use. EPA still believes the deletion action is appropriate. A responsiveness summary was prepared and placed in the docket, EPA-HQ-SFUND-2005-0011, on https://www.regulations.gov, and in the Regional repository listed in the ADDRESSES section.

For the Southeast Rockford Ground Water Contamination site (NPL listing is Southeast Rockford Gd Wtr Contamination site), the closing date for comments on the Notice of Intent to Partially Delete was July 23, 2020. One public comment was received which was not related to the deletion of the site from the NPL and EPA still believes the deletion action is appropriate. The comment and a memorandum documenting receipt of the comment were prepared and placed in the docket EPA-HQ-SFUND-1989-0008 on https://www.regulations.gov, and in the Regional repository listed in the ADDRESSES section.

For the U.S. Smelter & Lead Refining Inc. site, the closing date for comments on the Notice of Intent to Partially Delete was August 7, 2020. EPA received written or verbal public comments from the East Chicago Calumet Coalition and four individuals. EPA also received telephone calls during the comment period from four area residents requesting additional information about the partial deletion and their specific properties. The comments from the East Chicago Calumet Coalition and three residents opposed the deletion primarily based on potential effects of area groundwater contamination and the other portions of the site that EPA is still evaluating as part of an ongoing investigation at another area of the site not being partially deleted. One commenter opposed the deletion but did not include site specific information to support the opposition. The four phone callers were primarily requesting additional information about the partial deletion and their specific properties; however, three of the callers verbally expressed support for EPA's proposal to delete their properties from the NPL. EPA still believes the deletion action is appropriate. A responsiveness summary was prepared and placed in the docket EPA-HQ-SFUND-2008-0577, on https://www.regulations.gov, and in the Regional repository listed in the ADDRESSES section.

For all other sites not specified above, no adverse comments were received.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous substances, Hazardous waste, Intergovernmental relations, Natural resources, Oil pollution, Penalties, Reporting and recordkeeping requirements, Superfund, Water pollution control, Water supply.

Dated: September 10, 2020.
Dana Stalcup,
Acting Office Director, Office of Superfund Remediation and Technology Innovation.

For reasons set out in the preamble, 40 CFR part 300 is amended as follows:

PART 300—NATIONAL OIL AND HAZARDOUS SUBSTANCES POLLUTION CONTINGENCY PLAN

1. The authority citation for part 300 continues to read as follows:

Authority: 33 U.S.C. 1251 et seq.; 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

2. Amend Appendix B to part 300 by:

a. In Table 1 remove the entries for “CA”, “Jasco Chemical Co.” “Mountain View”; “MN”, “Fridley Commons Park Well Field”, “Fridley”; “MO”, “Annapolis Lead Mine” “Annapolis”; “MS”, “Red Panther Chemical Company”, “Clarksdale”; “NM” “Cimarron Mining Corp.”, “Carrizozo”; “OK”, “Tulsa Fuel and Manufacturing”, “Collinsville”, “WA”, “American Crossarm & Conduit Co.” “Chehalis”, and “WA”, “Northside Landfill”, “Spokane”.

b. In Table 1 revise the entries for “IL”, “Southeast Rockford Gd Wtr Contamination”, “Rockford”; “IN”, “Douglass Road/Uniroyal, Inc., Landfill”, “Mishawaka”; “IN”, “Fort Wayne Reduction Dump”, “Fort Wayne”; “IN”, “U.S. Smelter & Lead Refining Inc.”, “East Chicago”; “MA”, “Industri-Plex”, “Woburn”; “MT”, “Anaconda Co. Smelter”, “Anaconda”; “SC”, “Macalloy Corporation”, “North Charleston”, and “WA”, “Queen City Farms”, “Maple Valley”.

c. In Table 2 revise the entry for “AL”, “Redstone Arsenal (USARMY/NASA)”, “Huntsville”.

The revisions read as follows:

Appendix B to Part 300—National Priorities List

Table 1—General Superfund Section
State | Site name | City/county | Notes (a)
* * * * * * *
* * * * * * *
IL | Southeast Rockford Gd Wtr Contamination | Rockford | P
* * * * * * *
IN | Douglass Road/Uniroyal, Inc., Landfill | Mishawaka | P
* * * * * * *
IN | Fort Wayne Reduction Dump | Fort Wayne | P
* * * * * * *
IN | U.S. Smelter & Lead Refining Inc | East Chicago | P
* * * * * * *
MA | Industri-Plex | Woburn | P
* * * * * * *
MT | Anaconda Co. Smelter | Anaconda | P
* * * * * * *
SC | Macalloy Corporation | North Charleston | P
* * * * * * *
WA | Queen City Farms | Maple Valley | P
* * * * * * *
* P = Sites with partial deletion(s).

Table 2—Federal Facilities Section
State | Site name | City/county | Notes (a)
* * * * * * *
AL | Redstone Arsenal (USARMY/NASA) | Huntsville | P
* * * * * * *

[FR Doc. 2020-20402 Filed 9-29-20; 8:45 am]

BILLING CODE 6560-50-P